DEPARTMENT OF THE INTERIOR

National Park Service

[NPS-WASO-NRNHL-DTS#-30808; PPWOCRADI0, PCU00RP14.R50000]

National Register of Historic Places; Notification of Pending Nominations and Related Actions

AGENCY: National Park Service, Interior.

ACTION: Notice.

SUMMARY: The National Park Service is soliciting electronic comments on the significance of properties nominated before August 22, 2020, for listing or related actions in the National Register of Historic Places.

DATES: Comments should be submitted electronically by September 17, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before August 22, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IDAHO

Fremont County

Albaugh, Eleanor, Cabin, 4141 Upper Teton Ave., Island Park, SG100005620

KANSAS

Barton County

High Rise Apartments, 1101 Kansas Ave., Great Bend, SG100005621

Douglas County

Holy Family Catholic Church, 911 East 9th St. (301 East 9th St., legal description), Eudora, SG100005623

Leavenworth County

William Small Memorial Home for Aged Women, 711 North Broadway St., Leavenworth, SG100005624

Saline County

Lowell School, (Public Schools of Kansas MPS), 1009 South Highland Ave., Salina, MP100005625

Sedgwick County

Century II Performing Arts and Convention Center, 225 West Douglas Ave., Wichita, SG100005627

McCormick-Armstrong Press Building, 1501 East Douglas Ave., Wichita, SG100005628

Wichita Public Library-Main Branch, 223 South Main St., Wichita, SG100005629

Shawnee County

Kouns, Charles and Dorothy, House, 1625 SW MacVicar Ave., Topeka, SG100005630

Fire Station No. 6, 1419 NE Seward Ave., Topeka, SG100005631

House at 116 Southwest The Drive, (Houses of the Garlinghouse Company in Topeka MPS), 116 SW The Drive, Topeka, MP100005633

Lippitt, James and Freda, House, (Houses of the Garlinghouse Company in Topeka MPS), 2532 SW Granthurst Ave., Topeka, MP100005634

Wabaunsee County

Grimm-Schultz Farmstead, (Agriculture-Related Resources of Kansas MPS), 35180 Old K-10 Hwy., Alma, MP100005635

MAINE

Cumberland County

Portland Waterfront Historic District (Boundary Increase III), 113-115 Middle St., Portland, BC100005648

Kennebec County

Vassalboro Mill, 934 and 960 Main St., Vassalboro, SG100005649

Knox County

BLACKJACK (friendship sloop), Rockland Harbor at 75 Mechanic St., Rockland, SG100005650

MARYLAND

Montgomery County

Washington Grove Historic District (Boundary Increase), Roughly bounded by Washington Grove Ln., Ridge Rd., and MARC tracks., Washington Grove, BC100005640

MISSISSIPPI

Harrison County

Gulfport-Harrison County Public Library, 1400 21st Ave., Gulfport, SG100005619

Rankin County

Brandon South College Street Historic District, Bounded by South College St., East Sunset Dr. to Bentonwood Dr., jct. of South College St., and MS 468, West Sunset and Prescott Drs., and West Jasper Sts., Brandon, SG100005646

SOUTH CAROLINA

Georgetown County

Sandy Island School, 32 Sandy Island Rd., Sandy Island, SG100005641

Richland County

Ruth's Beauty Parlor, (Segregation in Columbia, South Carolina MPS), 1221 Pine St., Columbia, MP100005638

VERMONT

Washington County

East Calais Historic District, VT14, Marshfield Rd., Batten Rd., Back St., and Moscow Woods Rd., Calais, SG100005618

Windsor County

Stockmayer, Walter and Sylvia, House, (Mid-Century Modern Residential Architecture in Norwich, Vermont MPS), 48 Overlook Dr., Norwich, MP100005643

A request for removal has been made for the following resources:

KANSAS

Wyandotte County

St. John the Divine Catholic Church, 2511 Metropolitan Ave., Kansas City, OT13000820

MAINE

Aroostook County

Lagassey Farm, 786 Main St., Saint Agatha, OT08001356

Additional documentation has been received for the following resources:

MAINE

Lincoln County

Kavanagh, Gov. Edward, House (Additional Documentation), ME 213 (Damariscotta Mills), Newcastle, AD74000178

MARYLAND

Montgomery County

Washington Grove Historic District (Additional Documentation), MD 124, Washington Grove, AD80001829

(Authority: Section 60.13 of 36 CFR part 60)

Dated: August 25, 2020.
Sherry A. Frear,
Chief, National Register of Historic Places/National Historic Landmarks Program.

[FR Doc. 2020-19355 Filed 9-1-20; 8:45 am]

BILLING CODE 4312-52-P